DEPARTMENT OF HEALTH AND HUMAN SERVICES

Indian Health Service

Division of Behavioral Health, Office of Clinical and Preventive Services; Methamphetamine and Suicide Prevention Initiative—Generation Indigenous (Gen-I) Initiative Support

Announcement Type: New.

Funding Announcement Number: HHS-2017-IHS-MSPI-0001.

Catalog of Federal Domestic Assistance Number (CFDA): 93.933.

Key Dates

Application Deadline Date: January 9, 2017.

Review Date: January 17-27, 2017.

Earliest Anticipated Start Date: February 15, 2017.

Signed Tribal Resolutions Due Date: January 9, 2017.

Proof of Non-Profit Status Due Date: January 9, 2017.

I. Funding Opportunity Description

Statutory Authority

The Indian Health Service (IHS), an agency which is part of the Department of Health and Human Services (HHS), is accepting applications for grants for the Methamphetamine and Suicide Prevention Initiative (Short Title: MSPI)—Generation Indigenous (GEN-I) Initiative Support to continue the planning, development and implementation of the current grant funding cycle for the MSPI Purpose Area #4 (GEN-I Initiative Support) that focuses on promoting early intervention strategies and the implementation of positive youth development programming to reduce risk factors for suicidal behavior and substance abuse by working with Native youth up to and including age 24. This program was first established by the Consolidated Appropriations Act of 2008, Public Law 110-161, 121 Stat. 1844, 2135, and has been continued in the annual appropriations acts since that time. This program is authorized under the authority of the Snyder Act, 25 U.S.C. 13 and the Indian Health Care Improvement Act, 25 U.S.C. 1601-1683. The amounts made available for MSPI funding shall be allocated at the discretion of the Principal Deputy Director of IHS and shall remain available until expended. IHS utilizes a national funding formula developed in consultation with Tribes and the National Tribal Advisory Committee on behavioral health, as well as conferring with urban Indian organizations (UIOs). The funding formula provides the allocation methodology for each IHS service area. This program is described in the Catalog of Federal Domestic Assistance under 93.933.

Background

The overall goals of MSPI are to: (1) Increase Tribal, UIO, and Federal capacity to operate successful methamphetamine prevention, treatment, and aftercare and suicide prevention, intervention, and postvention services through implementing community and organizational needs assessment and strategic plans; (2) develop and foster data sharing systems among Tribal, UIO, and Federal behavioral health service providers to demonstrate efficacy and impact; (3) identify and address suicide ideations, attempts, and contagions among American Indian and Alaska Native (AI/AN) populations through the development and implementation of culturally appropriate and community relevant prevention, intervention, and postvention strategies; (4) identify and address methamphetamine use among AI/AN populations through the development and implementation of culturally appropriate and community relevant prevention, treatment, and aftercare strategies; (5) identify provider and community education on suicide and methamphetamine use by offering appropriate trainings; and (6) promote positive AI/AN youth development and family engagement through the implementation of early intervention strategies to reduce risk factors for suicidal behavior and substance abuse.

Purpose

The primary purpose of this IHS grant is to focus on MSPI goal #6, “to promote positive AI/AN youth development and family engagement through the implementation of early intervention strategies to reduce risk factors for suicidal behavior and substance use.” Grants will be awarded in three IHS Areas: Navajo Area, Phoenix Area, and the Tucson Area. The last FOA did not yield the full allocation of funds for these three IHS Areas. Projects will accomplish this by focusing specifically on MSPI Purpose Area #4: GEN-I Initiative Support.

Purpose Area #4: Generation Indigenous Initiative Support

The focus of Purpose Area #4 is to:

1. Implement evidence-based and practice-based approaches to build resiliency, promote positive development, and increase self-sufficiency behaviors among Native youth;

2. Promote family engagement;

3. Increase access to prevention activities for youth to prevent methamphetamine use and other substance use disorders that contribute to suicidal behaviors, in culturally appropriate ways; and

4. Hire additional behavioral health staff (i.e., licensed behavioral health providers and paraprofessionals, including but not limited to peer specialists, mental health technicians, and community health aides) specializing in child, adolescent, and family services who will be responsible for implementing the project's activities that address all the broad objectives listed.

All four of the broad objectives listed for MSPI Purpose Area #4 must be addressed in the application Project Narrative scope of work for new applicants. If an application submission does not address all the required broad objectives in the Project Narrative scope of work, the application will not be considered for funding.

Evidence-Based Practices, Practice-Based Evidence, Promising Practices, and Local Efforts

IHS strongly emphasizes the use of data and evidence in policymaking and program development and implementation. Applicants must identify one or more evidence-based practice, practice-based evidence, best or promising practice, and/or local effort that the applicant plans to implement in the Project Narrative section of the application. The MSPI Program Web site (http://www.ihs.gov/mspi/bestpractices/) is one resource that applicants may use to find information to build on the foundation of prior substance use and suicide prevention and treatment efforts in order to support the IHS and Tribes in developing and implementing Tribal and/or culturally appropriate substance use and suicide prevention and early intervention strategies.

Pre-Conference Grant Requirements

This section is only required if the applicant has included a “conference” in the proposed scope of work and intends on using funding to plan and conduct a conference or meeting during the project period. For definitions of what constitutes a “conference,” please see the policy at the link provided below. The awardee is required to comply with the “HHS Policy on Promoting Efficient Spending: Use of Appropriated Funds for Conferences and Meeting Space, Food, Promotional Items, and Printing and Publications,” dated December 16, 2013 (“Policy”), as applicable to conferences funded by grants and cooperative agreements. The Policy is available at http://www.hhs.gov/grants/contracts/contract-policies-regulations/conference-spending/.

The awardee is required to:

Provide a separate detailed budget justification and narrative for each conference anticipated. The cost categories to be addressed are as follows: (1) Contract/Planner, (2) Meeting Space/Venue, (3) Registration Web site, (4) Audio Visual, (5) Speakers Fees, (6) Non-Federal Attendee Travel, (7) Registration Fees, and (8) Other (explain in detail and cost breakdown). For additional questions please contact Audrey Solimon, National Program Coordinator in the IHS Division of Behavioral Health, at Audrey.Solimon@ihs.gov.

II. Award Information

Type of Award

Grant.

Estimated Funds Available

The total amount of funding identified for awards is approximately $1,417,142 for all three IHS areas. Applicants will be awarded according to their location within their respective IHS service area and will not compete with applicants from other IHS service areas. The amount of funding available for competing and continuation awards issued under this announcement are subject to the availability of appropriations and budgetary priorities of the agency. The IHS is under no obligation to make awards that are selected for funding under this announcement.

Anticipated Number of Awards

Approximately six awards will be issued under this funding opportunity announcement. The funding breakdown by area is as follows:

Navajo IHS Service Area

IHS expects to provide approximately $819,142 in total awards. Applicants may apply for amounts between $200,000-$400,000, or, if applying on behalf of the entire Tribe, IHS will accept applications for the entire award amount of $819,142.

Phoenix IHS Service Area

IHS expects to provide approximately $525,000 in total awards. Applicants should apply for $175,000.

Tucson IHS Service Area

IHS expects to make one award in the amount of $73,000. Applicants should apply for $73,000.

Project Period

The period of performance for this funding announcement will be for four years. Applicants should note that the first budget period will run from February 1, 2017 to September 29, 2017 (the first budget period will only be for 7 months, but a full 12 months of funding will be provided). Budget periods 2-4 will be for a 12 month period and run consecutively from September 30, 2017 to September 29, 2020.

III. Eligibility Information

1. Eligibility

Eligible applicants must be one of the following as defined by 25 U.S.C. 1603:

• A Federally-recognized Indian Tribe 25 U.S.C. 1603(14).

• A Tribal organization 25 U.S.C. 1603(26).

Note: Please refer to Section IV.2 (Application and Submission Information/Subsection 2, Content and Form of Application Submission) for additional proof of applicant status documents required, such as Tribal resolutions, proof of non-profit status, etc.

2. Cost Sharing or Matching

The IHS does not require matching funds or cost sharing for grants or cooperative agreements.

3. Other Requirements

If an application's budget exceeds the maximum funding amount listed for the applicant's IHS area breakdown outlined under the “Estimated Funds Available” section within this funding announcement, the application will be considered ineligible and will not be reviewed for further consideration. If deemed ineligible, IHS will not return the application. The applicant will be notified by email by the Division of Grants Management (DGM) of this decision.

Grantee/Awardee Meetings

Grantees/awardees are required to send the project director and/or project coordinator (the individual who runs the day-to-day project operations) to an annual MSPI meeting. Participation will be in-person or via virtual meetings. The grantee/awardee is required to include travel for this purpose in the budget and narrative of the project proposal. At these meetings, grantees/awardees will present updates and results of their projects including note of significant or ongoing concerns related to project implementation or management. Federal staff will provide updates and technical assistance to grantees/awardees in attendance.

Tribal Resolution

Tribal resolutions are required from all Tribes and Tribal organizations. An Indian Tribe or Tribal organization that is proposing a project affecting another Indian Tribe must include resolutions from all affected Tribes to be served. Applications by Tribal organizations will not require a specific Tribal resolution if the current Tribal resolution(s) under which they operate would encompass the proposed grant activities.

An official signed Tribal resolution must be received by the DGM prior to a Notice of Award being issued to any applicant selected for funding. However, if an official signed Tribal resolution cannot be submitted with the electronic application submission prior to the official application deadline date, a draft Tribal resolution must be submitted by the deadline in order for the application to be considered complete and eligible for review. The draft Tribal resolution is not in lieu of the required signed resolution, but is acceptable until a signed resolution is received. If an official signed Tribal resolution is not received by DGM when funding decisions are made, then a Notice of Award will not be issued to that applicant and they will not receive any IHS funds until such time as they have submitted a signed resolution to the grants management specialist listed in this funding announcement.

Proof of Non-Profit Status

Organizations claiming non-profit status must submit proof. A copy of the 501(c)(3) Certificate must be received with the application submission by the Application Deadline Date listed under the Key Dates section on page one of this announcement.

An applicant submitting any of the above additional documentation after the initial application submission due date is required to ensure the information was received by the IHS DGM by obtaining documentation confirming delivery (i.e., FedEx tracking, postal return receipt, etc.).

IV. Application and Submission Information

1. Obtaining Application Materials

The application package and detailed instructions for this announcement can be found at http://www.Grants.gov or http://www.ihs.gov/dgm/funding/.

Questions regarding the electronic application process may be directed to Mr. Paul Gettys at (301) 443-2114 or (301) 443-5204.

2. Content and Form Application Submission

The applicant must include the project narrative as an attachment to the application package. Mandatory documents for all applicants include:

• Table of Contents.

• Abstract (must be single-spaced and not exceed one page) summarizing the project.

• Application forms:

○ SF-424, Application for Federal Assistance.

○ SF-424A, Budget Information—Non-Construction Programs.

○ SF-424B, Assurances—Non-Construction Programs.

• Statement of Need (must be single-spaced and not exceed two pages).

○ Includes the Tribe or Tribal organization background information.

• Project Narrative (must be single-spaced and not exceed 20 pages).

○ Proposed scope of work, objectives, and activities that provide a description of what will be accomplished, including a one-page Timeline Chart, and a Local Data Collection Plan.

• Budget and Budget Narrative (must be single-spaced and not exceed four pages).

• Tribal Resolution(s) (only required for Indian Tribes and Tribal organizations).

• Letter(s) of Support:

○ For all applicants: local organizational partners;

○ For all applicants: community partners;

○ For Tribal organizations: from the board of directors (or relevant equivalent);

• 501(c)(3) Certificate (if applicable).

• Biographical sketches for all key personnel (e.g., project director, project coordinator, grants coordinator, etc.).

• Contractor/consultant qualifications and scope of work.

• Disclosure of Lobbying Activities (SF-LLL).

• Certification Regarding Lobbying (GG-Lobbying Form).

• Copy of current Negotiated Indirect Cost rate (IDC) agreement (required in order to receive IDC).

• Documentation of current Office of Management and Budget (OMB) Financial Audit (if applicable).

Acceptable forms of documentation include:

○ Email confirmation from Federal Audit Clearinghouse (FAC) that audits were submitted; or

○ Face sheets from audit reports. These can be found on the FAC Web site: https://harvester.census.gov/facdissem/Main.aspx.

Public Policy Requirements

All Federal-wide public policies apply to IHS grants and cooperative agreements with exception of the discrimination policy.

Requirements for Statement of Need

The statement of need describes the history and current situation in the applicant's Tribal community (“community” means the applicant's Tribe, village, Tribal organization, or consortium of Tribes or Tribal organizations). The statement of need provides the facts and evidence that support the need for the project and establishes that the Tribe or Tribal organization understands the problems and can reasonably address them and provides background information on the Tribe or Tribal organization. The statement of need must not exceed two single-spaced pages and must be type written, have consecutively number pages, use black type not smaller than 12 point, and printed on one side of standard size 8-1/2″ × 11″ paper.

Requirements for Project, Budget and Budget Narratives

A. Project Narrative: This narrative, or proposed approach, should be a separate Word document that is no longer than 20 pages and must: be single-spaced, type written, have consecutively numbered pages, use black type not smaller than 12 points, and be printed on one side only of standard size 8-1/2″ x 11″ paper.

Be sure to succinctly address and answer all questions listed under the Project Narrative section and place them under the evaluation review criteria (refer to Section V.1, Evaluation criteria in this announcement) and place all responses and required information in the correct section (noted below), or they will not be considered or scored. These narratives will assist the Objective Review Committee (ORC) in becoming familiar with the applicant's activities and accomplishments prior to this grant award. If the narrative exceeds the page limit, only the first 20 pages will be reviewed. The 20-page limit for the narrative does not include the table of contents, abstract, statement of need, work plan, standard forms, Tribal resolutions, budget or budget narrative, and/or other appendix items.

There are five (5) parts to the project narrative:

• Part A—Goals and Objectives;

• Part B—Project Activities;

• Part C—Timeline Chart (template provided);

• Part D—Organizational Capacity and Staffing/Administration; and

• Part E—Plan for Local Data Collection.

See below for additional details about what must be included in the narrative.

Part A: Goals and Objectives

• Describe the purpose of the proposed project that includes a clear statement of goals and objectives.

• Address the four (4) broad objectives listed for MSPI Purpose Area #4 and the objectives should be clearly outlined in the project narrative. If the application does not address all four broad objectives, the application will be considered ineligible and will not be reviewed for further consideration.

Part B: Project Activities

• Describe how project activities will increase the capacity of the identified community to plan and improve the coordination of a collaborative behavioral health and wellness service systems.

• Describe anticipated barriers to progress of the project and how the barriers will be addressed.

• Discuss how the proposed approach addresses the local language, concepts, attitudes, norms and values about suicide, and/or substance use.

• Describe how the proposed project will address issues of diversity within the population of focus including age, race, gender, ethnicity, culture/cultural identity, language, sexual orientation, disability, and literacy.

• If the applicant plans to include an advisory body in the project, describe its membership, roles and functions, and frequency of meetings.

• Describe how the efforts of the proposed project will be coordinated with any other related Federal grants, including IHS, the Substance Abuse and Mental Health Services Administration (SAMHSA), or Bureau of Indian Affairs (BIA) services provided in the community (if applicable).

• Identify any other organization(s) that will participate in the proposed project. Describe their roles and responsibilities and demonstrate their commitment to the project. Include a list of these organizations as an attachment to the application. In the attached list, indicate the organizations that the Tribe or Tribal organization has worked with or currently works with. [Note: The attachment will not count as part of the 20-page maximum].

Part C: Timeline Chart

• Provide a one-year (first budget year) timeline chart depicting a realistic timeline for the project period showing key activities, milestones, and responsible staff. These key activities should include the requirements outlined for MSPI Purpose Area #4. [Note: The timeline chart should be included as part of the Project Narrative as specified here. It should not be placed as an attachment.]. The timeline chart should not exceed one page.

Part D: Organizational Capacity and Staffing/Administration

• Describe the management capability and experience of the applicant Tribe or Tribal organization and other participating organizations in administering similar grants and projects.

• Discuss the applicant Tribe or Tribal organization experience and capacity to provide culturally appropriate/competent services to the community and specific populations of focus.

• Describe the resources available for the proposed project (e.g., facilities, equipment, information technology systems, and financial management systems).

• Describe how project continuity will be maintained if/when there is a change in the operational environment (e.g., staff turnover, change in project leadership, change in elected officials) to ensure project stability over the life of the grant.

• Provide a complete list of staff positions for the project, including the project director, project coordinator, and other key personnel, showing the role of each and their level of effort and qualifications.

• Include position descriptions as attachments to the project proposal/application for the project director, project coordinator, and all key personnel. Position descriptions should not exceed one page each. [Note: Attachments will not count against the 20 page maximum].

• For individuals that are identified and currently on staff, include a biographical sketch (not to include personally identifiable information) for the project director, project coordinator, and other key positions as attachments to the project proposal/application. Each biographical sketch should not exceed one page. Reviewers will not consider information past page one. [Note: Attachments will not count against the 20 page maximum]. Do not include any of the following:

Personally Identifiable Information;

Resumes; or

Curriculum Vitae.

Part E: Plan for Local Data Collection

• Describe the applicant's plan for gathering local data, submitting data requirements, and document the applicant's ability to ensure accurate data tracking and reporting. Describe how members of the community (including youth and families that may receive services) will be involved in the planning, implementation, and data collection.

Funded projects are required to coordinate data collection efforts with their assigned regional Technical Assistance (TA) Provider for evaluation. The regional TA Providers for evaluation are the Tribal Epidemiology Centers (TECs) for each IHS area. The TA Providers for evaluation are funded by IHS. Awardees will work with their assigned regional TA Provider for evaluation to measure and track the core processes, outcomes, impacts, and benefits associated with the MSPI. Awardees shall collect local data related to the project and submit it in annual progress reports to IHS and will assist the national MSPI evaluation. The purpose of the national evaluation is to assess the extent to which the projects are successful in achieving project goals and objectives and to determine the impact of MSPI-related activities on individuals and the larger community.

Progress reporting will be required on national data elements related to program outcomes and financial reporting for all awardees. Progress reports will be collected annually throughout the project on a Web-based data portal and transferred to the GrantSolutions system to comply with the grant requirements. Progress reports include the compilation of quantitative (numerical) data (e.g., number served, screenings completed, etc.) and qualitative or narrative (text) data (e.g., program accomplishments, barriers to implementation, and description of partnership and coalition work).

The reporting portal will be open to project staff on a 24 hour/7 day week basis for the duration of each reporting period. In addition, Federal financial report forms (SF-425), which document funds received and expended during the reporting period, will be available. Required financial forms will be available from the IHS DGM, and other required forms will be provided throughout the funding period by DGM or the IHS Division of Behavioral Health (DBH). All document/materials are to be submitted online. Technical assistance for Web-based data entry and for the completion of required fiscal documents will be timely and readily available to awardees by assigned IHS area project officers.

B. Budget and Budget Narrative: The applicant is required to include a line item budget for all expenditures identifying reasonable and allowable costs necessary to accomplish the goals and objectives as outlined in the project narrative for Budget Year 1 only. The budget should match the scope of work described in the project narrative for the first budget year expenses only. The page limitation should not exceed four single-spaced pages.

The applicant must provide a narrative justification for all items included in the proposed line item budget supporting the mission and goals of MSPI, as well as a description of existing resources and other support the applicant expects to receive for the proposed project. Other support is defined as funds or resources, whether Federal, non-Federal or institutional, in direct support of activities through fellowships, gifts, prizes, in-kind contributions or non-Federal means. (This should correspond to Item #18 on the applicant's SF-424, Estimated Funding.) Provide a narrative justification supporting the development or continued collaboration with other partners regarding the proposed activities to be implemented.

Templates

Templates are provided for the project narrative, timeline chart, budget and budget narrative, and biographical sketch. These templates can be located and downloaded at the MSPI Web site at: https://www.ihs.gov/mspi.

3. Submission Dates and Times

Applications must be submitted electronically through Grants.gov by 11:59 p.m. Eastern Daylight Time (EDT) on the Application Deadline Date listed in the Key Dates section on page one of this announcement. Any application received after the application deadline will not be accepted for processing, nor will it be given further consideration for funding. Grants.gov will notify the applicant via email if the application is rejected.

If technical challenges arise and assistance is required with the electronic application process, contact Grants.gov Customer Support via email to support@grants.gov or at (800) 518-4726. Customer Support is available to address questions 24 hours a day, 7 days a week (except on Federal holidays). If problems persist, contact Mr. Gettys (Paul.Gettys@ihs.gov), DGM Grant Systems Coordinator, by telephone at (301) 443-2114 or (301) 443-5204. Please be sure to contact Mr. Gettys at least ten days prior to the application deadline. Please do not contact the DGM until you have received a Grants.gov tracking number. In the event you are not able to obtain a tracking number, call the DGM as soon as possible.

4. Intergovernmental Review

Executive Order 12372 requiring intergovernmental review is not applicable to this program.

5. Funding Restrictions

• Pre-award costs are not allowable.

• The available funds are inclusive of direct and appropriate indirect costs.

• Only one grant/cooperative agreement will be awarded per applicant.

• IHS will not acknowledge receipt of applications.

6. Electronic Submission Requirements

All applications must be submitted electronically. Please use the http://www.Grants.gov Web site to submit an application electronically and select the “Find Grant Opportunities” link on the homepage. Download a copy of the application package, complete it offline, and then upload and submit the completed application via the http://www.Grants.gov Web site. Electronic copies of the application may not be submitted as attachments to email messages addressed to IHS employees or offices.

If the applicant needs to submit a paper application instead of submitting electronically through Grants.gov, a waiver must be requested. A written waiver request must be sent to GrantsPolicy@ihs.gov with a copy to Robert.Tarwater@ihs.gov. The waiver must (1) be documented in writing (emails are acceptable), before submitting a paper application, and (2) include clear justification for the need to deviate from the required electronic grants submission process.

Once the waiver request has been approved, the applicant will receive a confirmation of approval email containing submission instructions and the mailing address to submit the application. A copy of the written approval must be submitted along with the hardcopy of the application that is mailed to DGM. Paper applications that are submitted without a copy of the signed waiver from the Senior Policy Analyst of the DGM will not be reviewed or considered for funding. The applicant will be notified via email of this decision by the Grants Management Officer of the DGM. Paper applications must be received by the DGM no later than 5:00 p.m., EDT, on the Application Deadline Date listed in the Key Dates section on page one of this announcement. Late applications will not be accepted for processing or considered for funding. Applicants that do not adhere to the timelines for System for Award Management (SAM) and/or http://www.Grants.gov registration or that fail to request timely assistance with technical issues will not be considered for a waiver to submit a paper application.

Please be aware of the following:

• Please search for the application package in http://www.Grants.gov by entering the CFDA number or the Funding Opportunity Number. Both numbers are located in the header of this announcement.

• If you experience technical challenges while submitting your application electronically, please contact Grants.gov Support directly at: support@grants.gov or (800) 518-4726. Customer Support is available to address questions 24 hours a day, 7 days a week (except on Federal holidays).

• Upon contacting Grants.gov, obtain a tracking number as proof of contact. The tracking number is helpful if there are technical issues that cannot be resolved and a waiver from the agency must be obtained.

• Applicants are strongly encouraged not to wait until the deadline date to begin the application process through Grants.gov as the registration process for SAM and Grants.gov could take up to fifteen working days.

• Please use the optional attachment feature in Grants.gov to attach additional documentation that may be requested by the DGM.

• All applicants must comply with any page limitation requirements described in this funding announcement.

• After electronically submitting the application, the applicant will receive an automatic acknowledgment from Grants.gov that contains a Grants.gov tracking number. The DGM will download the application from Grants.gov and provide necessary copies to the appropriate agency officials. Neither the DGM nor the DBH will notify the applicant that the application has been received.

• Email applications will not be accepted under this announcement.

Dun and Bradstreet (D&B) Data Universal Numbering System (DUNS)

All IHS applicants and grantee organizations are required to obtain a DUNS number and maintain an active registration in the SAM database. The DUNS number is a unique 9-digit identification number provided by D&B which uniquely identifies each entity. The DUNS number is site specific; therefore, each distinct performance site may be assigned a DUNS number. Obtaining a DUNS number is easy, and there is no charge. To obtain a DUNS number, you may access it through http://fedgov.dnb.com/webform, or to expedite the process, call (866) 705-5711.

All HHS recipients are required by the Federal Funding Accountability and Transparency Act of 2006, as amended (“Transparency Act”), to report information on sub-awards. Accordingly, all IHS grantees must notify potential first-tier sub-recipients that no entity may receive a first-tier sub-award unless the entity has provided its DUNS number to the prime grantee organization. This requirement ensures the use of a universal identifier to enhance the quality of information available to the public pursuant to the Transparency Act.

System for Award Management (SAM)

Organizations that were not registered with Central Contractor Registration and have not registered with SAM will need to obtain a DUNS number first and then access the SAM online registration through the SAM home page at https://www.sam.gov (U.S. organizations will also need to provide an Employer Identification Number from the Internal Revenue Service that may take an additional 2-5 weeks to become active). Completing and submitting the registration takes approximately one hour to complete and SAM registration will take 3-5 business days to process. Registration with the SAM is free of charge. Applicants may register online at https://www.sam.gov.

Additional information on implementing the Transparency Act, including the specific requirements for DUNS and SAM, can be found on the IHS grants management, grants policy Web site: http://www.ihs.gov/dgm/policytopics/.

V. Application Review Information

The instructions for preparing the application narrative also constitute the evaluation criteria for reviewing and scoring the application. Weights assigned to each section are noted in parentheses. The 20 page narrative should include only the first year of activities. The narrative section should be written in a manner that is clear to outside reviewers unfamiliar with prior related activities of the applicant. It should be well organized, succinct, and contain all information necessary for reviewers to understand the project fully. Points will be assigned to each evaluation criteria adding up to a total of 100 points. A minimum score of 65 points is required for funding. Points are assigned as follows:

1. Criteria

Applications will be reviewed and scored according to the quality of responses to the required application components in Sections A-E below. In developing the required sections of this application, use the instructions provided for each section, which have been tailored to this program. The application must use the five sections (Sections A-E) listed below in developing the application. The applicant must place the required information in the correct section or it will not be considered for review. The application will be scored according to how well the applicant addresses the requirements for each section listed below. The number of points after each heading is the maximum number of points the review committee may assign to that section. Although scoring weights are not assigned to individual bullets, each bullet is assessed deriving the overall section score.

A. Statement of Need (History and Current Situation in your Tribal Community) (35 points)

The statement of need should not exceed two single-spaced pages.

(1) Identify the proposed catchment area and provide demographic information on the population(s) to receive services through the targeted systems or agencies, e.g., race, ethnicity, Federally recognized Tribe, language, age, socioeconomic status, sexual identity (sexual orientation, gender identity), and other relevant factors, such as literacy. Describe the stakeholders and resources in the catchment area that can help implement the needed infrastructure development.

(2) Based on the information and/or data currently available, document the prevalence of suicide ideations, attempts, clusters (groups of suicides or suicide attempts or both that occurred close together in time and space), and completions, and substance use rates. For this purpose area, the data should be geared toward AI/AN children and youth.

(3) Based on the information and/or data currently available, document the need for an enhanced infrastructure to increase the capacity to implement, sustain, and improve effective substance abuse prevention and/or behavioral health services in the proposed catchment area that is consistent with the purpose of the program and the funding opportunity announcement. Based on available data, describe the service gaps and other problems related to the need for infrastructure development. Identify the source of the data. Documentation of need may come from a variety of qualitative and quantitative sources. Examples of data sources for the quantitative data that could be used are local epidemiologic data (TECs, IHS area offices), state data (e.g., from state needs assessments), and/or national data (e.g., SAMHSA's National Survey on Drug Use and Health or from National Center for Health Statistics/Centers for Disease Control reports, and census data). This list is not exhaustive; applicants may submit other valid data, as appropriate for the applicant's program.

(4) Describe the current suicide prevention, substance abuse prevention, trauma-related, and mental health promotion activities happening in the applicant's community/communities for Native youth up to and including age 24 and their families. Indicate which organizations/entities are currently offering these activities and where the resources come from to support them.

(5) Describe the current service gaps, including disconnection between available services and unmet needs of Native youth up to and including age 24 and their families.

(6) Describe potential project partners and community resources in the catchment area that can participate in the planning process and infrastructure development.

B. Project Narrative/Proposed Approach (20 points)

The project narrative required components (listed as the six components in “Requirements for Project Narrative”) together should not exceed 20 single-spaced pages.

(1) Describe the purpose of the proposed project, including a clear statement of goals and objectives. The proposed project narrative is required to address all four objectives listed for MSPI Purpose Area #4. Describe how achievement of goals will increase system capacity to support the goals and objectives or activities for MSPI Purpose Area #4 by showing how the project will work with Native youth up to and including age 24.

(2) Describe how project activities will increase the capacity of the identified community to plan and improve the coordination of a collaborative behavioral health and wellness service systems. Describe anticipated barriers to progress of the project and how these barriers will be addressed.

(3) Discuss how the proposed approach addresses the local language, concepts, attitudes, norms and values about suicide, and/or substance use.

(4) Describe how the proposed project will address issues of diversity for Native youth up to and including age 24 including race/ethnicity, gender, culture/cultural identity, language, sexual orientation, disability, and literacy.

(5) Describe how Native youth up to and including ages 24 and families may receive services and how they will be involved in the planning, implementation, and data collection and regional evaluation of the project.

(6) Describe how the efforts of the proposed project will be coordinated with any other related Federal grants, including IHS, SAMHSA, or BIA services provided in the community (if applicable).

(7) Provide a timeline chart depicting a realistic timeline for the 1-year project period showing key activities, milestones, and responsible staff. [Note: The timeline chart should be part of the project narrative as specified in the “Requirements for Project Proposals” section. It should not be placed as an attachment.]

(8) If the applicant plans to include an advisory body in the project, describe its membership, roles and functions, and frequency of meetings.

(9) Identify any other organization(s) that will participate in the proposed project. Describe their roles and responsibilities and demonstrate their commitment to the project. Include a list of these organizations as an attachment to the project proposal/application. In the attached list, indicate the organizations that the Tribe or Tribal organization has worked with or currently works with. [Note: The attachment will not count as part of the 20-page maximum.]

C. Organizational Capacity and Staffing/Administration (15 points)

(1) Describe the management capability and experience of the applicant Tribe or Tribal organization and other participating organizations in administering similar grants and projects.

(2) Identify the department/division that will administer this project. Include a description of this entity, its function and its placement within the organization (Tribe or Tribal organization). If the program is to be managed by a consortium or Tribal organization, identify how the project office relates to the member community/communities.

(3) Discuss the applicant Tribe or Tribal organization experience and capacity to provide culturally appropriate/competent services to the community and specific populations of focus.

(4) Describe the resources available for the proposed project (e.g., facilities, equipment, information technology systems, and financial management systems).

(5) Describe how project continuity will be maintained if/when there is a change in the operational environment (e.g., staff turnover, change in project leadership, change in elected officials) to ensure project stability over the life of the grant.

(6) Provide a list of staff positions for the project, including the behavioral health staff, project director, project coordinator, and other key personnel, showing the role of each and their level of effort and qualifications. Demonstrate successful project implementation for the level of effort budgeted for the behavioral health staff, project director, project coordinator, and other key staff.

(7) Include position descriptions as attachments to the application for the behavioral health staff, project director, project coordinator, and all key personnel. Position descriptions should not exceed one page each. [Note: Attachments will not count against the 20 page maximum.]

(8) For individuals that are currently on staff, include a biographical sketch (not to include personally identifiable information) for each individual that will be listed as the behavioral health staff, project director, project coordinator, and other key positions. Describe the experience of identified staff in mental health promotion, suicide and substance abuse prevention work in the community/communities. Include each biographical sketch as attachments to the project proposal/application. Biographical sketches should not exceed one page per staff member. Reviewers will not consider information past page one. [Note: Attachments will not count against the 20 page maximum.] Do not include any of the following:

Personally Identifiable Information;

Resumes; or

Curriculum Vitae.

D. Local Data Collection Plan (20 points)

Describe the applicant's plan for gathering local data, submitting data requirements, and document the applicant's ability to ensure accurate data tracking and reporting. Describe how members of the community (including Native youth up to and including age 24 and families that may receive services) will be involved in the planning, implementation, and data collection.

Funded projects are required to coordinate data collection efforts with their assigned regional TA Provider for evaluation. The regional TA Providers for evaluation are the TECs for each IHS area. The TA Providers for evaluation are funded by IHS. Awardees will work with their assigned regional TA Provider for evaluation to measure and track the core processes, outcomes, impacts, and benefits associated with the MSPI. Awardees shall collect local data related to the project and submit it in annual progress reports to IHS and will assist the national MSPI evaluation. The purpose of the national evaluation is to assess the extent to which the projects are successful in achieving project goals and objectives and to determine the impact of MSPI-related activities on individuals and the larger community.

Progress reporting will be required on national selected data elements related to program outcomes and financial reporting for all awardees. Progress reports will be collected annually throughout the project on a web-based data portal. Progress reports include the compilation of quantitative (numerical) data (e.g., number served, screenings completed, etc.) and qualitative or narrative (text) data (e.g., program accomplishments, barriers to implementation, and description of partnership and coalition work).

E. Budget and Budget Narrative (10 points)

The applicant is required to include a line item budget for all expenditures identifying reasonable and allowable costs necessary to accomplish the goals and objectives as outlined in the project narrative for Budget Year 1 only. The budget should match the scope of work described in the project narrative for the first budget year expenses only. The budget and budget narrative must not exceed four single-spaced pages.

The applicant must provide a narrative justification of the items included in the proposed line item budget supporting the mission and goals of MSPI, as well as a description of existing resources and other support the applicant expects to receive for the proposed project. Other support is defined as funds or resources, whether Federal, non-Federal or institutional, in direct support of activities through fellowships, gifts, prizes, in-kind contributions or non-Federal means (this should correspond to Item #18 on the applicant's SF-424, Estimated Funding). Provide a narrative justification supporting the development or continued collaboration with other partners regarding the proposed activities to be implemented.

The Budget and Budget Narrative the applicant provides will be considered by reviewers in assessing the applicant's submission, along with the material in the Project Narrative. Applicants should ensure that the budget and budget narrative are aligned with the project narrative.

Additional Documents Can Be Uploaded as Appendix Items in Grants.gov

• Work plan, logic model and/or time line for proposed objectives.

• Position descriptions for key staff.

• Resumes of key staff that reflect current duties.

• Consultant or contractor proposed scope of work and letter of commitment (if applicable).

• Current Indirect Cost Agreement.

• Organizational chart.

• Map of area identifying project location(s).

• Additional documents to support narrative (i.e., data tables, key news articles, etc.).

2. Review and Selection

Each application will be prescreened by the DGM staff for eligibility and completeness as outlined in the funding announcement. Applications that meet the eligibility criteria shall be reviewed for merit by the ORC based on evaluation criteria in this funding announcement. The ORC could be composed of both Tribal and Federal reviewers appointed by the IHS program to review and make recommendations on these applications. The technical review process ensures selection of quality projects in a national competition for limited funding. Incomplete applications and applications that are non-responsive to the eligibility criteria will not be referred to the ORC. The applicant will be notified via email of this decision by the Grants Management Officer of the DGM. Applicants will be notified by DGM, via email, to outline minor missing components (i.e., budget narratives, audit documentation, key contact form) needed for an otherwise complete application. All missing documents must be sent to DGM on or before the due date listed in the email of notification of missing documents required.

To obtain a minimum score for funding by the ORC, applicants must address all program requirements and provide all required documentation.

VI. Award Administration Information

1. Award Notices

The Notice of Award (NoA) is a legally binding document signed by the Grants Management Officer and serves as the official notification of the grant award. The NoA will be initiated by the DGM in our grant system, GrantSolutions (https://www.grantsolutions.gov). Each entity that is approved for funding under this announcement will need to request or have a user account in GrantSolutions in order to retrieve their NoA. The NoA is the authorizing document for which funds are dispersed to the approved entities and reflects the amount of Federal funds awarded, the purpose of the grant, the terms and conditions of the award, the effective date of the award, and the budget/project period.

Disapproved Applicants

Applicants who received a score less than the recommended funding level for approval, 65 points, and were deemed to be disapproved by the ORC, will receive an Executive Summary Statement from the IHS program office within 30 days of the conclusion of the ORC outlining the strengths and weaknesses of their application submitted. The summary statement will be sent to the Authorized Organizational Representative that is identified on the face page (SF-424) of the application. The IHS program office will also provide additional contact information as needed to address questions and concerns as well as provide technical assistance if desired.

Approved But Unfunded Applicants

Approved but unfunded applicants that met the minimum scoring range and were deemed by the ORC to be “Approved”, but were not funded due to lack of funding, will have their applications held by DGM for a period of one year. If additional funding becomes available during the course of fiscal year 2017, the approved but unfunded application may be re-considered by the awarding program office for possible funding. The applicant will also receive an Executive Summary Statement from the IHS program office within 30 days of the conclusion of the ORC.

Note: Any correspondence other than the official NoA signed by an IHS grants management official announcing to the project director that an award has been made to their organization is not an authorization to implement their program on behalf of IHS.

2. Administrative Requirements

Grants are administered in accordance with the following regulations and policies:

A. The criteria as outlined in this program announcement.

B. Administrative Regulations for Grants:

• Uniform Administrative Requirements for HHS Awards, located at 45 CFR part 75.

C. Grants Policy:

• HHS Grants Policy Statement, Revised 01/07.

D. Cost Principles:

• Uniform Administrative Requirements for HHS Awards, “Cost Principles,” located at 45 CFR part 75, subpart E.

E. Audit Requirements:

• Uniform Administrative Requirements for HHS Awards, “Audit Requirements,” located at 45 CFR part 75, subpart F.

3. Indirect Costs

This section applies to all grant recipients that request reimbursement of indirect costs (IDC) in their grant application. In accordance with HHS Grants Policy Statement, Part II-27, IHS requires applicants to obtain a current IDC rate agreement prior to award. The rate agreement must be prepared in accordance with the applicable cost principles and guidance as provided by the cognizant agency or office. A current rate covers the applicable grant activities under the current award's budget period. If the current rate is not on file with the DGM at the time of award, the IDC portion of the budget will be restricted. The restrictions remain in place until the current rate is provided to the DGM.

Generally, IDC rates for IHS grantees are negotiated with the Division of Cost Allocation (DCA) https://rates.psc.gov/ and the Department of Interior (Interior Business Center) https://www.doi.gov/ibc/services/finance/indirect-Cost-Services/indian-tribes. For questions regarding the indirect cost policy, please call the grants management specialist listed under “Agency Contacts” or the main DGM office at (301) 443-5204.

4. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the grantee organization or the individual responsible for preparation of the reports. Per DGM policy, all reports are required to be submitted electronically by attaching them as a “Grant Note” in GrantSolutions. Personnel responsible for submitting reports will be required to obtain a login and password for GrantSolutions. Please see the Agency Contacts list in section VII for the systems contact information.

The reporting requirements for this program are noted below.

A. Progress Reports

Program progress reports are required annually, within 30 days after the budget period ends. These reports must include a brief comparison of actual accomplishments to the goals established for the period, a summary of progress to date or, if applicable, provide sound justification for the lack of progress, and other pertinent information as required. A final program progress report must be submitted within 90 days of expiration of the budget/project period at the end of the funding cycle. Additional information for reporting and associated requirements will be included in the “Programmatic Terms and Conditions” in the official NoA, if funded.

B. Financial Reports

Federal Financial Report FFR (SF-425), Cash Transaction Reports are due 30 days after the close of every calendar quarter to the Payment Management Services, HHS at http://www.dpm.psc.gov. It is recommended that the applicant also send a copy of the FFR (SF-425) report to the grants management specialist. Failure to submit timely reports may cause a disruption in timely payments to the organization.

Grantees are responsible and accountable for accurate information being reported on all required reports: The Progress Reports and Federal Financial Report.

C. Post Conference Grant Reporting

This section is only required if the applicant has included a “conference” in the proposed scope of work and intends on using funding to plan and conduct a conference or meeting during the project period. The following requirements were enacted in Section 3003 of the Consolidated Continuing Appropriations Act, 2013, and Section 119 of the Continuing Appropriations Act, 2014; Office of Management and Budget Memorandum M-12-12: All HHS/IHS awards containing grants funds allocated for conferences will be required to complete a mandatory post award report for all conferences. Specifically: The total amount of funds provided in this award/cooperative agreement that were spent for “Conference X” must be reported in final detailed actual costs within 15 days of the completion of the conference. Cost categories to address should be: (1) Contract/Planner, (2) Meeting Space/Venue, (3) Registration Web site, (4) Audio Visual, (5) Speakers Fees, (6) Non-Federal Attendee Travel, (7) Registration Fees, and (8) Other.

D. Federal Sub-Award Reporting System (FSRS)

This award may be subject to the Transparency Act sub-award and executive compensation reporting requirements of 2 CFR part 170.

The Transparency Act requires the OMB to establish a single searchable database, accessible to the public, with information on financial assistance awards made by Federal agencies. The Transparency Act also includes a requirement for recipients of Federal grants to report information about first-tier sub-awards and executive compensation under Federal assistance awards.

IHS has implemented a Term of Award into all IHS Standard Terms and Conditions, NoAs and funding announcements regarding the FSRS reporting requirement. This IHS Term of Award is applicable to all IHS grant and cooperative agreements issued on or after October 1, 2010, with a $25,000 sub-award obligation dollar threshold met for any specific reporting period. Additionally, all new (discretionary) IHS awards (where the project period is made up of more than one budget period) and where: (1) The project period start date was October 1, 2010 or after and (2) the primary awardee will have a $25,000 sub-award obligation dollar threshold during any specific reporting period will be required to address the FSRS reporting.

For the full IHS award term implementing this requirement and additional award applicability information, visit the DGM Grants Policy Web site at: http://www.ihs.gov/dgm/policytopics/.

E. Compliance With Executive Order 13166 Implementation of Services Accessibility Provisions for All Grant Application Packages and Funding Opportunity Announcements

Recipients of federal financial assistance (FFA) from HHS must administer their programs in compliance with Federal civil rights law. This means that recipients of HHS funds must ensure equal access to their programs without regard to a person's race, color, national origin, disability, age and, in some circumstances, sex and religion. This includes ensuring your programs are accessible to persons with limited English proficiency. HHS provides guidance to recipients of FFA on meeting their legal obligation to take reasonable steps to provide meaningful access to their programs by persons with limited English proficiency. Please see http://www.hhs.gov/civil-rights/for-individuals/special-topics/limited-english-proficiency/guidance-federal-financial-assistance-recipients-title-VI/.

The HHS Office for Civil Rights (OCR) also provides guidance on complying with civil rights laws enforced by HHS. Please see http://www.hhs.gov/civil-rights/for-individuals/section-1557/index.html; and http://www.hhs.gov/civil-rights/index.html. Recipients of FFA also have specific legal obligations for serving qualified individuals with disabilities. Please see http://www.hhs.gov/civil-rights/for-individuals/disability/index.html. Please contact the HHS OCR for more information about obligations and prohibitions under Federal civil rights laws at http://www.hhs.gov/ocr/about-us/contact-us/headquarters-and-regional-addresses/index.html or call 1-800-368-1019 or TDD 1-800-537-7697. Also note it is an HHS Departmental goal to ensure access to quality, culturally competent care, including long-term services and supports, for vulnerable populations. For further guidance on providing culturally and linguistically appropriate services, recipients should review the National Standards for Culturally and Linguistically Appropriate Services in Health and Health Care at http://minorityhealth.hhs.gov/omh/browse.aspx?lvl=2&lvlid=53.

Pursuant to 45 CFR 80.3(d), an individual shall not be deemed subjected to discrimination by reason of his/her exclusion from benefits limited by Federal law to individuals eligible for benefits and services from the IHS. Recipients will be required to sign the HHS-690 Assurance of Compliance form which can be obtained from the following Web site: http://www.hhs.gov/sites/default/files/forms/hhs-690.pdf, and send it directly to the: U.S. Department of Health and Human Services, Office of Civil Rights, 200 Independence Ave. SW., Washington, DC 20201.

F. Federal Awardee Performance and Integrity Information System (FAPIIS)

The IHS is required to review and consider any information about the applicant that is in the Federal Awardee Performance and Integrity Information System (FAPIIS) before making any award in excess of the simplified acquisition threshold (currently $150,000) over the period of performance. An applicant may review and comment on any information about itself that a Federal awarding agency previously entered. IHS will consider any comments by the applicant, in addition to other information in FAPIIS in making a judgment about the applicant's integrity, business ethics, and record of performance under Federal awards when completing the review of risk posed by applicants as described in 45 CFR 75.205.

As required by 45 CFR part 75 Appendix XII of the Uniform Guidance, non-federal entities (NFEs) are required to disclose in FAPIIS any information about criminal, civil, and administrative proceedings, and/or affirm that there is no new information to provide. This applies to NFEs that receive Federal awards (currently active grants, cooperative agreements, and procurement contracts) greater than $10,000,000 for any period of time during the period of performance of an award/project.

Mandatory Disclosure Requirements

As required by 2 CFR part 200 of the Uniform Guidance, and the HHS implementing regulations at 45 CFR part 75, effective January 1, 2016, the IHS must require a non-federal entity or an applicant for a Federal award to disclose, in a timely manner, in writing to the IHS or pass-through entity all violations of Federal criminal law involving fraud, bribery, or gratuity violations potentially affecting the Federal award.

Submission is required for all applicants and recipients, in writing, to the IHS and to the HHS Office of Inspector General all information related to violations of Federal criminal law involving fraud, bribery, or gratuity violations potentially affecting the Federal award. 45 CFR 75.113

Disclosures must be sent in writing to:

U.S. Department of Health and Human Services, Indian Health Service, Division of Grants Management, ATTN: Robert Tarwater, Director, 5600 Fishers Lane, Mail Stop: 09E70, Rockville, Maryland 20857 (Include “Mandatory Grant Disclosures” in subject line).

Office: (301) 443-5204.

Fax: (301) 594-0899.

Email: Robert.Tarwater@ihs.gov.

AND

U.S. Department of Health and Human Services, Office of Inspector General, ATTN: Mandatory Grant Disclosures, Intake Coordinator, 330 Independence Avenue SW., Cohen Building, Room 5527, Washington, DC 20201.

URL: http://oig.hhs.gov/fraud/report-fraud/index.asp (Include “Mandatory Grant Disclosures” in subject line).

Fax: (202) 205-0604 (Include “Mandatory Grant Disclosures” in subject line) or

Email: MandatoryGranteeDisclosures@oig.hhs.gov.

Failure to make required disclosures can result in any of the remedies described in 45 CFR 75.371 Remedies for noncompliance, including suspension or debarment (See 2 CFR parts 180 & 376 and 31 U.S.C. 3321).

VII. Agency Contacts

1. Questions on the programmatic issues may be directed to: Audrey Solimon, Public Health Analyst, National MSPI/DVPI Program Coordinator, Division of Behavioral Health, 5600 Fishers Lane, Mail Stop: 08N34-A, Rockville, MD 20857.

Phone: (301) 590-5421.

Fax: (301) 594-6213.

Email: Audrey.Solimon@ihs.gov.

2. Questions on grants management and fiscal matters may be directed to: Donald Gooding, Grants Management Specialist, 5600 Fishers Lane, Mail Stop: 09E70, Rockville, MD 20857.

Phone: (301) 443-2298.

Fax: (301) 594-0899.

Email: Gooding.Donald@ihs.gov.

3. Questions on systems matters may be directed to: Paul Gettys, Grant Systems Coordinator, 5600 Fishers Lane, Mail Stop: 09E70, Rockville, MD 20857.

Phone: (301) 443-2114; or the DGM main line (301) 443-5204.

Fax: (301) 594-0899. E-Mail: Paul.Gettys@ihs.gov.

VIII. Other Information

The Public Health Service strongly encourages all cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Dated: November 29, 2016.
Mary Smith,
Principal Deputy Director, Indian Health Service.

[FR Doc. 2016-29262 Filed 12-6-16; 8:45 am]

BILLING CODE 4165-16-P